DEPARTMENT OF ENERGY

Environmental Management Advisory Board

AGENCY: Office of Environmental Management, Department of Energy.

ACTION: Notice of an open virtual meeting.

SUMMARY: This notice announces an online virtual open meeting of the Environmental Management Advisory Board (EMAB). The Federal Advisory Committee Act requires that public notice of this meeting be announced in the Federal Register.

DATES: Tuesday, July 30, 2024; 2-4 p.m. EDT.

ADDRESSES: This meeting will be held virtually via Zoom. To attend, please register at: https://www.energy.gov/em/listings/emab-meetings and select “EMAB Meeting—July 2024.”

FOR FURTHER INFORMATION CONTACT: Kelly Snyder, Designated Federal Officer (DFO); email: kelly.snyder@em.doe.gov; telephone: (702) 918-6715.

SUPPLEMENTARY INFORMATION:

Purpose of the Board: The purpose of EMAB is to provide the Assistant Secretary for Environmental Management (EM) with independent advice and recommendations on corporate issues confronting the EM program. EMAB's membership reflects a diversity of views, demographics, expertise, and professional and academic experience. Individuals are appointed by the Secretary of Energy to serve as either special Government employees or representatives of specific interests and/or entities.

Tentative Agenda:

• Remarks from EM leadership

• Charge discussion and vote

• Reading of public comment

• Board business

Public Participation: The online virtual meeting is open to the public. The Designated Federal Officer is empowered to conduct the meeting in a fashion that will facilitate the orderly conduct of business. Individuals wishing to provide a written public comment can email the comment to Kelly Snyder at Kelly.Snyder@em.doe.gov in advance of the meeting or up to three days after the meeting. If you require special accommodations due to a disability, please contact Kelly Snyder at least seven days in advance of the meeting at the email address listed above.

Minutes: Minutes will be available at the following website: https://www.energy.gov/em/listings/emab-meetings.

Signing Authority: This document of the Department of Energy was signed on July 1, 2024, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 2, 2024.
Treena V. Garrett,
Federal Register Liaison Officer, U.S. Department of Energy.

[FR Doc. 2024-14841 Filed 7-5-24; 8:45 am]

BILLING CODE 6450-01-P